ENVIRONMENTAL PROTECTION AGENCY

[FRL-9767-6; CERCLA-04-2012-3780]

Ellman Battery Superfund Site; Orlando, Orange County, FL; Notice of Settlement

AGENCY: Environmental Protection Agency (EPA).

ACTION: Notice of settlement.

SUMMARY: Under 122(h)(1) of the Comprehensive Environmental Response, Compensation and Liability Act (CERCLA), the United States Environmental Protection Agency has entered into an Ability To Pay settlement to recover outstanding cost from two parties concerning a previous Removal Action at the Ellman Battery Superfund Site located in Orlando, Orange County, Florida.

DATES: The Agency will consider public comments on the settlement until February 4, 2013. The Agency will consider all comments received and may modify or withdraw its consent to the settlement if comments received disclose facts or considerations which indicate that the settlement is inappropriate, improper, or inadequate.

ADDRESSES: Copies of the settlement are available from Ms. Paula V. Painter. Submit your comments by Site name Ellman Battery Superfund Site by one of the following methods:

• www.epa.gov/region4/superfund/programs/enforcement/enforcement.html.

• Email. Painter.Paula@epa.gov.

• U.S. Environmental Protection Agency, 61 Forsyth Street SW., Atlanta, Georgia 30303.

FOR FURTHER INFORMATION CONTACT: Paula V. Painter at 404/562-8887.

Dated: December 10, 2012.
Anita L. Davis,
Chief, Superfund Enforcement & Information Management Branch, Superfund Division.

[FR Doc. 2012-31733 Filed 1-3-13; 8:45 am]

BILLING CODE 6560-50-P